DEPARTMENT OF EDUCATION

[CFDA Nos. 84.282B and 84.282C]

Charter Schools Program (CSP) Grants to Non-State Educational Agencies for Planning, Program Design, and Implementation and for Dissemination.

ACTION: Correction; Notice correcting date.

SUMMARY: We correct the Deadline for Intergovernmental Review date in the notice published on June 16, 2008 (73 FR 33995-34001).

SUPPLEMENTARY INFORMATION: On June 16, 2008, we published a notice in the Federal Register (73 FR 33995) inviting applications for new awards for fiscal year (FY) 2008 for the Charter Schools Program (CSP) Grants to Non-State Educational Agencies for Planning, Program Design, and Implementation and for Dissemination. The Deadline for Intergovernmental Review date (as published on pages 33995 and 33997) is corrected to September 2, 2008.

FOR FURTHER INFORMATION CONTACT: Erin Pfeltz, U.S. Department of Education, 400 Maryland Avenue, SW., room 4W255, Washington, DC 20202-5970. Telephone: (202) 205-3525 or by e-mail: erin.pfeltz@ed.gov.

If you use a TDD, call the FRS, toll-free, at 1-800-877-8339.

Individuals with disabilities can obtain this document in an alternative format (e.g., Braille, large print, audiotape, or computer diskette) on request to the program contact person listed under FOR FURTHER INFORMATION CONTACT.

Electronic Access to This Document: You can view this document, as well as all other documents of this Department published in the Federal Register, in text or Adobe Portable Document Format (PDF), on the Internet at the following site: http://www.ed.gov/news/fedregister.

To use PDF, you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: June 27, 2008.
Douglas B. Mesecar,
Assistant Deputy Secretary for Innovation and Improvement.

[FR Doc. E8-15042 Filed 7-1-08; 8:45 am]

BILLING CODE 4000-01-P